DEPARTMENT OF COMMERCE

International Trade Administration

Application(s) for Duty-Free Entry of Scientific Instruments

Pursuant to Section 6(c) of the Educational, Scientific and Cultural Materials Importation Act of 1966 (Pub. L. 89-651, as amended by Pub. L. 106-36; 80 Stat. 897; 15 CFR part 301), we invite comments on the question of whether instruments of equivalent scientific value, for the purposes for which the instruments shown below are intended to be used, are being manufactured in the United States.

Comments must comply with 15 CFR 301.5(a)(3) and (4) of the regulations and be postmarked on or before November 9, 2020. Address written comments to Statutory Import Programs Staff, Room 3720, U.S. Department of Commerce, Washington, DC 20230. In addition, please email an electronic copy of any such written comments to Dianne.Hanshaw@trade.gov. Arrangements to review these applications can be made by contacting Dianne.Hanshaw@trade.gov.

Docket Number: 20-003. Applicant: Rice University, Department of Microengineering, 6100 Main Street, Houston, TX 77030. Instrument: Ultrasonic Linear Piezo Stage and Controller. Manufacturer: Xeryon, Belgium. Intended Use: According to the applicant, the instrument will be used to study automatic and large-scale surgical implantation of nanoelectrode threads into rodent and primate brains. Specifically, a platform is developed that can insert 8 ultraflexible nanoelectrode threads (uNETs) into the brain simultaneously and independently, while each insertion site is flexibly defined by the surgeons' and researchers' need and can be precisely researched by micromanipulators. Successful development of this technology will significantly reduce the time, errors and tissue trauma during brain surgery, meanwhile, it will open opportunities such as slow-speed insertion, flexibly targeting multiple regions and large-scale neural recordings. Justification for Duty-Free Entry: According to the applicant, there are no instruments of the same general category manufactured in the United States. Application accepted by Commissioner of Customs: July 31, 2020.

Docket Number: 20-004. Applicant: Texas A&M University, AgriLife Research, 2147 TAMU, College Station, TX 77843-2147. Instrument: 3D Microfabrication System Photonic Professional GT. Manufacturer: Nanoscribe, Germany. Intended Use: According to the applicant, the instrument will be used to conduct research in the broad areas of material research, thin-film metal semiconductors, bio microfluidics, medical devices and optical/photonic devices, to name a few. These physical platforms will manifest in the forms of devices (ranging from 1-200 cm²) that will then be taken to individual laboratories for further experimentation in the aforementioned fields under the guidance and scope of the Texas A&M University research communities. Justification for Duty-Free Entry: According to the applicant, there are no instruments of the same general category manufactured in the United States. Application accepted by Commissioner of Customs: July 20, 2020.

Docket Number: 20-005. Applicant: University of Chicago Argonne LLC, Operator of National Laboratory 9700 South Cass Avenue, Lemont, IL 60439-4873. Instrument: Libera Brilliance+ 4/4 with GDX module BPM electronics. Manufacturer: Instrumentation Technologies D.D, Solvenia. Intended Use: According to the applicant, the instrument will be used to study precision measurement for the particle beam position in the Advanced Photon Source Upgrade storage ring. The measurement information is used to steer the particle beam and photon beam that will be used as a three-dimensional X-ray microscope for experimental purposes. The materials/phenomena include material properties analysis, protein mapping for pharmaceutical companies, X-ray imaging and chemical composition determination and many others, but are not limited to grain structure, grain boundary and interstitial defects and morphology. These properties are not only studied at ambient environments, but also under high pressure, temperature, stress and strain. Justification for Duty-Free Entry: According to the applicant, there are no instruments of the same general category manufactured in the United States. Application accepted by Commissioner of Customs: July 30, 2020.

Docket Number: 20-006. Applicant: University of Chicago Argonne LLC, Operator of National Laboratory 9700 South Cass Avenue, Lemont, IL 60439-4873. Instrument: Canted Undulator GRID Masks. Manufacturer: Strumenti Scientific CINEL S.R.L., Italy.

Intended Use: According to the applicant, the instrument will be used to study and assemble the new canted undulator front ends for the Advanced Photon Source upgrade. The front end consists of a series of components that connect the storage ring to the user beamline in order to deliver a photon beam that will be used as a three-dimensional X-ray microscope for experimental purposes. The materials/phenomena vary widely from material properties analysis, protein mapping for pharmaceutical companies, X-ray imaging and chemical composition determination to name a few. The properties of the materials are not limited to grain structure, grain boundary and interstitial defects and morphology. These properties are studied at ambient environments but also under high pressure, temperature, stress and strain. Justification for Duty-Free Entry: According to the applicant, there are no instruments of the same general category manufactured in the United States. Application accepted by Commissioner of Customs: July 29, 2020.

Docket Number: 20-007. Applicant: University of Chicago Argonne LLC, Operator of National Laboratory 9700 South Cass Avenue, Lemont, IL 60439-4873. Instrument: Canted Undulator Premasks and Exit Masks. Manufacturer: Strumenti Scientific CINEL S.R.L., Italy. Intended Use: According to the applicant, the instrument will be used to study and assemble the new canted undulator front ends for the Advanced Photon Source upgrade. The front end consists of a series of components that connect the storage ring to the user beamline in order to deliver a photon beam that will be used as a three-dimensional X-ray microscope for experimental purposes. The materials/phenomena vary widely from material properties analysis, protein mapping for pharmaceutical companies, X-ray imaging and chemical composition determination to name a few. The properties of the materials are not limited to grain structure, grain boundary and interstitial defects and morphology. These properties are studied at ambient environments but also under high pressure, temperature, stress and strain. Justification for Duty-Free Entry: According to the applicant, there are no instruments of the same general category manufactured in the United States. Application accepted by Commissioner of Customs: July 29, 2020.

Dated: October 7, 2020.
Richard Herring,
Acting Director, Subsidies Enforcement, Enforcement and Compliance.

[FR Doc. 2020-22997 Filed 10-16-20; 8:45 am]

BILLING CODE 3510-DS-P